DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g., to provide for additional hazardous materials, packaging design changes, additional mode of transportation, etc.) are described in footnotes to the application number. Application numbers with the suffix “M” denote a modification request. These applications have been separated from the new application for special permits to facilitate processing.

DATES: Comments must be received on or before June 30, 2009.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://fdms.gov.

This notice of receipt of applications for modification of special permit is published in accordance with Part 107 of the Federal hazardous materials transportation law (49 U.S.C. 5117(b); 49 CFR 1.53(b)).

Issued in Washington, DC, on June 2, 2009.
Delmer F. Billings,
Director, Office of Hazardous, Materials, Special Permits and Approvals.

Modification Special Permits
Application No. | Docket No. | Applicant | Regulation(s) affected | Nature of special permit thereof
8495—M |  | Kidde Aerospace, Wilson, NC | 49 CFR 173.304(a)(1) 178.47; 175.3 | To modify the special permit to authorize the removal of the girth weld process and the post weld x-ray inspection.
9408-M |  | MEMC Pasadena, Inc., Pasadena, TX | 49 CFR 173.301(d)(2); 173.302 | To modify the special permit to authorize the lowering of service pressure from 2200 to 1600 psi.
11156-M |  | Alaska Pacific Powder Company, Anchorage, AK | 49 CFR 173.62; 173.212(b) | To modify the special permit to authorize cargo aircraft as an authorized mode of transport.
13556-M |  | Stericycle, Inc., Lake Forest, IL | 49 CFR 172.301(a)(1); 172.301(c) | To modify the special permit to delete the requirement that no other lading is authorized in the vehicle.
14466-M |  | Alaska Pacific Powder Company, Anchorage, AK | 49 CFR 172.101 Column (9B) | To modify the special permit to authorize additional Division 2.1 hazardous materials.
14584-M |  | WavesinSolids LLC, State College, PA | 49 CFR 173.302 and 180.209 | To modify the special permit to authorize additional cylinders and to allow cylinders to be charged to 110 percent of the usual settled filled pressure or 110 percent of the stamped service pressure (whichever is greater).
14600-M |  | McLane Company, Inc., Temple, TX | 49 CFR 173.308 | To modify the special permit to authorize two addtional BIC lighters.
14817-M |  | Questar, Inc., North Canton, OH | 49 CFR 173.12(b)(2) | To modify the special permit to authorize the manufacture, marking, sale and use of a larger (66 gallon) corrugated fiberboard box for use as the outer packaging for lab pack applications in accordance with 49 CFR 173.12(b).

[FR Doc. E9-13932 Filed 6-12-09; 8:45 am]

BILLING CODE 4909-60-M